DEPARTMENT OF DEFENSE

Defense Acquisition Regulations System

[Docket Number DARS-2017-0003; OMB Control Number 0704-0386]

Information Collection Requirement; Defense Federal Acquisition Regulation Supplement; Small Business Programs; Submission for OMB Review; Comment Request

AGENCY: Defense Acquisition Regulations System; Department of Defense (DoD).

ACTION: Notice.

SUMMARY: The Defense Acquisition Regulations System has submitted to OMB for clearance, the following proposed extension of a collection of information under the provisions of the Paperwork Reduction Act.

DATES: Consideration will be given to all comments received by December 21, 2020.

SUPPLEMENTARY INFORMATION:

Title and OMB Number: Defense Federal Acquisition Regulation Supplement (DFARS) Part 219, Small Business Programs, and Associated Clause in Part 252; OMB Control Number 0704-0386.

Type of Request: Renewal of a currently approved collection.

Affected Public: Businesses or other for-profit and not-for-profit institutions.

Respondent's Obligation: Required to obtain or retain benefits.

Number of Respondents: 41.

Responses per Respondent: 1.

Annual Responses: 41.

Average Burden per Response: 1 hour.

Annual Burden Hours: 41.

Reporting Frequency: On occasion.

Needs and Uses: This information collection includes requirements relating to DFARS part 219, Small Business Programs, and the clause at DFARS 252.219-7003, Small Business Subcontracting Plan (DoD Contracts). DoD needs this information to improve administration under the small business subcontracting program and to evaluate a contractor's past performance in complying with its subcontracting plan.

The clause at DFARS 252.219-7003 is prescribed for use in solicitations and contracts that include the clause at FAR 52.219-9, Small Business Subcontracting Plan. Paragraph (e) of the DFARS clause requires the contractor to notify the contracting officer, in writing, of any substitutions of firms that are not small business firms, for the small business firms specifically identified in the subcontracting plan. The notification is necessary when (1) a prime contractor has identified specific small business concerns in its subcontracting plan, and (2) after contract award, substitutes one of the small businesses identified in its subcontracting plan with a firm that is not a small business. The intent of this information collection is to alert the contracting officer of this situation.

Comments and recommendations on the proposed information collection should be sent to Ms. Susan Minson, DoD Desk Officer, at Oira_submission@omb.eop.gov. Please identify the proposed information collection by DoD Desk Officer and the Docket ID number and title of the information collection.

You may also submit comments, identified by docket number and title, by the following method: Federal eRulemaking Portal: http://www.regulations.gov. Follow the instructions for submitting comments.

DoD Clearance Officer: Ms. Angela James. Requests for copies of the information collection proposal should be sent to Ms. James at whs.mc-alex.esd.mbx.dd-dod-information-collections@mail.mil.

Jennifer D. Johnson,
Regulatory Control Officer, Defense Acquisition Regulations System.

[FR Doc. 2020-25709 Filed 11-19-20; 8:45 am]

BILLING CODE 5001-06-P